DEPARTMENT OF TRANSPORTATION

Federal Railroad Administration

Federal Transit Administration

Notice of Funding Opportunity for FY 2017 Positive Train Control Grant Funds

AGENCY: Federal Railroad Administration (FRA) and Federal Transit Administration (FTA), Department of Transportation (DOT).

ACTION: Notice.

SUMMARY: This notice details the application requirements and procedures to obtain funding for the installation of Positive Train Control (PTC) systems required under the Railroad Safety Improvement Act of 2008, as amended by the Positive Train Control Enforcement and Implementation Act of 2015. The opportunities described in this notice are available under Catalog of Federal Domestic Assistance number 20.321, “Positive Train Control.”

FRA will review applications for funding under this NOFO and will select the projects for funding. FTA will award the grant funds and administer and manage the grants after award. FRA will help FTA monitor the PTC implementation and progress of the grantees. In addition, applicants should contact FRA with PTC technical questions.

DATES: Applications for funding under this solicitation are due no later than 5:00 p.m. EDT, September 27, 2016. Applications for funding received after 5:00 p.m. EDT on September 27, 2016 will not be considered for funding. See Section 4 of this notice for additional information on the application process.

ADDRESSES: Applications must be submitted via Grants.gov. For any required or supporting application materials that an applicant is unable to submit via Grants.gov (such as oversized engineering drawings), an applicant may submit an original and two (2) copies to Ms. Amy Houser, Office of Program Delivery, Federal Railroad Administration, 1200 New Jersey Avenue SE., Room W36-412, Washington, DC 20590. However, due to delays caused by enhanced screening of mail delivered via the U.S. Postal Service, applicants are advised to use other means of conveyance (such as courier service) to assure timely receipt of materials.

FOR FURTHER INFORMATION CONTACT: If you have a PTC project related question, you may contact Dr. Mark Hartong, Senior Scientific Technical Advisor, Federal Railroad Administration (phone: (202) 493-1332; email: mark.hartong@dot.gov), or Mr. Devin Rouse, Program Manager, Federal Railroad Administration (phone: (202) 493-6185, email: devin.rouse@dot.gov). Grant application submission and processing questions should be addressed to Ms. Amy Houser, Office of Program Delivery, Federal Railroad Administration (1200 New Jersey Avenue SE., Room W36-412, Washington, DC 20590; email: amy.houser@dot.gov). For questions regarding FTA administration of grants awarded under this competition, contact Mr. Eric Hu, Office of Program Management, Federal Transit Administration (phone: (202) 366-0870; email: eric.hu@dot.gov).

SUPPLEMENTARY INFORMATION:

Notice to applicants: FRA and FTA recommend applicants read this notice in its entirety prior to preparing application materials. There are several administrative prerequisites described herein that applicants must comply with to submit an application and specific eligibility requirements applicants must meet. Additionally, applicants should note that the required Project Narrative component of the application package may not exceed 25 pages in length (including any appendices).

Table of Contents

1. Program Description

2. Federal Award Information

3. Eligibility Information

4. Application and Submission Information

5. Application Review

6. Federal Award Administration

7. Federal Awarding Agency Contacts

Section 1: Program Description

The purpose of this notice is to solicit applications for grants to assist financing the installation of PTC systems required under 49 U.S.C. 20157 (Implementation of positive train control systems). The maximum $197.01 million of funding available under this NOFO after approximately $2 million is set aside for program oversight is authorized by section 3028 of the Fixing America's Surface Transportation (FAST) Act (Public Law 114-94). All projects that receive funding under this notice must comply with the applicable requirements of 49 U.S.C. 20157 and 49 CFR part 236, subpart I, including 236.1005 (Requirements for Positive Train Control Systems). The funding described in this notice is authorized to be appropriated for Federal Fiscal Year 2017 beginning October 1, 2016. Funding allocations made under this notice are subject to the availability of funds.

Section 2: Federal Award Information

The maximum funding authorized under this NOFO is $197.01 million after approximately $2 million is set aside for program oversight per the FAST Act. Per the FAST Act, FRA anticipates selecting multiple projects for the funding made available in this notice, and is not predetermining any minimum or maximum dollar amounts for awards. However, given the limited amount of funding currently available, applicants are encouraged to identify scalable project phases or elements that would result in the installation of components necessary for the deployment of a PTC system required under 49 U.S.C. 20157, because FRA may choose to make project selections for less than the total amount requested in the application.

Section 3: Eligibility Information

This section of the notice explains the requirements for submitting an eligible grant application. Applications that do not meet the requirements in this section will be considered ineligible for funding. Instructions for conveying eligibility information to FRA are detailed in Section 4 of this NOFO.

3.1 Applicant Eligibility

Eligible applicants for PTC system funding under this notice are entities that are recipients of funds under 49 U.S.C. Chapter 53.

a. This includes, but is not limited to, the following entities:

i. Public transit agencies operating commuter railroads; and

ii. State and local governments.

b. Applicants must:

i. Have submitted a revised Positive Train Control Implementation Plan (PTCIP) to FRA as required by 49 U.S.C. 20157(a); or

ii. Be tenants on one or more host railroads whose host railroad(s) have submitted a revised PTCIP as required by 49 U.S.C. 20157(a).

c. An applicant who has not submitted a revised PTCIP to FRA as required by 49 U.S.C. 20157(a), and is not a tenant on one or more host railroads who have submitted a revised PTCIP as required by 49 U.S.C. 20157(a), may be eligible for funding under this notice if the applicant can demonstrate to FRA's satisfaction in the grant application that the:

i. Applicant is not required to submit a revised PTCIP as required by 49 U.S.C. 20157(a); and

ii. Proposed project will assist in financing the installation of a PTC system required under 49 U.S.C. 20157.

3.2 Project Eligibility

Projects eligible for funding under this NOFO must help install PTC systems required under 49 U.S.C. 20157. The capital costs of PTC systems installation would be eligible project activities including but not limited to: Back office systems; wayside, communications and onboard hardware equipment, software; equipment installation; and spectrum acquisition.

Examples of eligible PTC system projects include the following:

a. Installation of PTC systems;

b. Installation of shared PTC system infrastructure (e.g., back office systems and computer-aided dispatch (CAD) systems);

c. Advancement of PTC system interoperability related to installation, such as spectrum acquisition, spectrum sharing, and radio interference and desensitization;

d. Installation of technologies that will lower costs, accelerate PTC implementation, increase interoperability between host and tenant operations, and improve reliability of PTC systems; and

e. Installation of technologies that will eliminate PTC system communications interference, provide solutions to configuration management of multi-railroad PTC software and firmware deployments, and provide host-tenant railroad PTC interoperability and PTC System Certification.

These are examples of eligible projects, and FRA will evaluate any other projects meeting the criteria of this NOFO for eligibility and consideration for award.

Preventive maintenance and overhaul costs, new vehicle procurement, real estate property acquisition, building construction and acquisition, and operating expenses are not eligible costs under this NOFO.

3.3 Cost Eligibility

Funds awarded under this notice must not exceed 80 percent of the total cost of a project. The required 20 percent non-Federal share may be comprised of public sector (state or local) or private sector funding. However, FRA will not consider any other Federal grant funds, nor any non-Federal funds already expended (or otherwise encumbered), towards the matching requirement. FRA is limiting the method for calculating the non-Federal match to cash contributions only—FRA will not accept “in-kind” contributions and transportation development credits. FRA will consider non-Federal matching funds exceeding the minimum requirement when evaluating the merit of an application.

Section 4: Application and Submission Information

4.1 Submission Dates and Times

Applicants must submit complete applications to Grants.gov no later than 5:00 p.m. EDT, September 27, 2016. Delayed registration is not an acceptable reason for late submission. In order to apply for funding under this announcement, all applicants are expected to be registered as an organization with Grants.gov. Applicants are strongly encouraged to apply early to ensure that all materials are received before this deadline. Late applications that are the result of failure to register or comply with Grants.gov applicant requirements in a timely manner will not be considered.

4.2 Application Content

Applicants should read this section carefully and must submit all required information.

Project Narrative

This section describes the minimum content required in the Project Narrative component of grant applications (FRA also recommends the Project Narrative generally adhere to the following outline). These requirements must be satisfied through a narrative statement submitted by the applicant, and may be supported by spreadsheet documents, tables, maps, drawings, and other materials, as appropriate. The Project Narrative may not exceed 25 pages in length (including any appendices). FRA will not review or consider for award applications with Project Narratives exceeding the 25 page limitation.

a. The Project Narrative must:

i. Include a title page that lists the following elements in either a table or formatted list: Project title; location (i.e., city, State, Congressional district); applicant organization name; name of any co-applicants; amount of Federal funding requested; and proposed non-Federal match;

ii. Designate a point of contact for the applicant and provide his or her name and contact information, including phone number, mailing address, and email address. The point of contact must be an employee of an eligible applicant;

iii. Indicate the amount of Federal funding requested, the proposed non-Federal match, and total project cost. Additionally, identify any other sources of Federal funds committed to the project and any pending Federal requests. You must also note if the requested Federal funding must be obligated or spent by a certain date due to dependencies or relationships with other Federal or non-Federal funding sources, related projects, law, or other factors. Finally, specify whether you ever previously sought Federal funding for the project, and name the Federal program and fiscal year for the funding request;

iv. Explain how the applicant meets the applicant eligibility criteria outlined in Section 3 of this notice;

v. Provide a brief 4-6 sentence summary of the proposed project, capturing the PTC challenges the proposed project aims to address, as well as the intended outcomes and anticipated benefits that will result from the proposed project;

vi. Include a detailed project description that expands upon the brief summary required above. This detailed description should provide, at a minimum, additional background on the PTC challenges the project aims to address, the expected users and beneficiaries of the project, the specific components and elements of the project, and any other information the applicant deems necessary to justify the proposed project. The detailed description should also clearly explain how the proposed project meets the project eligibility criteria in Section 3 of this notice;

vii. Include a thorough discussion of how the proposed project meets all of the evaluation criteria for the respective project type, as outlined in Section 5 of this notice. Applicants should note that FRA reviews applications based upon the evaluation criteria. If an application does not sufficiently address the evaluation criteria, it is unlikely to be a competitive application. In responding to the criteria, applicants should clearly identify, quantify, and compare expected benefits and costs of proposed projects;

viii. Describe proposed project implementation and project management arrangements. Include descriptions of the expected arrangements for project contracting, contract oversight, change-order management, risk management, and conformance to Federal requirements for project progress reporting.

Additional Application Elements

b. Applicants must:

i. Submit a Statement of Work (SOW) that addresses the scope, schedule, and budget for the proposed project if it were selected for award. The SOW must contain sufficient detail so that FRA and FTA, and the applicant, can understand the expected outcomes of the proposed work to be performed and monitor progress toward completing project tasks and deliverables during a prospective grant's period of performance. FRA developed a standard SOW template that applicants must use to be considered for award. The SOW templates and other required forms are located at http://www.fra.dot.gov/Page/P0021.

ii. Describe anticipated environmental and historic preservation impacts associated with the proposed project, any environmental or historic preservation analyses that have been prepared, and progress toward completing any environmental documentation or clearance required for the proposed project under the National Environmental Policy Act (NEPA), the National Historic Preservation Act, section 4(f) of the U.S. DOT Act, the Clean Water Act, and other applicable Federal or State laws such as the FCC requirements for antenna transmission. Applicants are encouraged to contact FTA and obtain preliminary direction regarding the appropriate NEPA action and required environmental documentation. Generally, projects will be ineligible to receive funding if they have begun construction activities prior to the applicant receiving written approval from FTA that all environmental and historical analyses have been completed. Additional information regarding FTA's environmental processes and requirements are located at https://www.transit.dot.gov/regulations-and-guidance/environmental-programs/environmental-analysis-review.

iii. Submit an SF 424A—Budget Information for Non-Construction or SF 424C.

iv. Budget Information for Construction;

v. Submit an SF 424B—Assurances for Non-Construction or SF 424D—Assurances for Construction; and

vi. Submit an SF LLL: Disclosure of Lobbying Activities.

4.3 Submission Instructions

To apply for funding through Grants.gov, applicants must be properly registered. Complete instructions on how to register and submit an application can be found at Grants.gov. Registering with Grants.gov is a onetime process; however, it can take up to several weeks for first-time registrants to receive confirmation and a user password. FRA recommends that applicants start the registration process as early as possible to prevent delays that may preclude submitting an application package by the application deadline. Applications will not be accepted after the due date. Delayed registration is not an acceptable justification for an application extension. (Please note that if a Dun & Bradstreet (DUNS) number must be obtained or renewed, this may take a significant amount of time to complete.) Late applications that are the result of failure to register or comply with Grants.gov applicant requirements in a timely manner will not be considered.

Required documents for the application package are outlined in the following paragraphs. Applicants must complete and submit all components of the application package. FRA welcomes the submission of other relevant supporting documentation that may have been developed by the applicant (planning, engineering and design documentation, and letters of support). In particular, applications accompanied by completed feasibility studies and cost estimates may be more favorably considered during the evaluation process, as they demonstrate that an applicant has a greater understanding of the scope and cost of the project.

Applicants must submit all application materials through Grants.gov. For any required or supporting application materials that an applicant cannot submit via Grants.gov (such as oversized engineering drawings), an applicant may submit an original and two (2) copies to Ms. Amy Houser, Office of Program Delivery, Federal Railroad Administration, 1200 New Jersey Avenue SE., Room W36-412, Washington, DC 20590. However, due to delays caused by enhanced screening of mail delivered via the U.S. Postal Service, FRA advises applicants to use other means of conveyance (such as courier service) to assure timely receipt of materials. Additionally, if documents can be obtained online, explaining to FRA how to access files on a referenced Web site may also be sufficient.

4.4 Funding Restrictions

Use of Grant Funds for Federal Credit Assistance

At the request of an eligible applicant under Section 3 of this NOFO, and subject to DOT approval and any applicable laws that may otherwise prohibit using Federal grant funds in such a manner, amounts awarded to an eligible applicant under this grant may be used to pay certain costs applicants incur under sections 502 through 504 of the Railroad Revitalization and Regulatory Reform Act of 1976 (45 U.S.C. 801, et seq.) (Railroad Rehabilitation and Improvement Financing (RRIF) program). Requirements to use the grant money awarded under this NOFO for RRIF costs are explained further below.

In general, the RRIF program provides loans and loan guarantees to finance railroad and intermodal equipment and infrastructure, including PTC installation. Under the RRIF program, a RRIF loan applicant or other non-Federal source must pay a Credit Risk Premium (CRP) assessed based on the overall risk of each transaction. In addition, the RRIF applicant pays an evaluation charge to reimburse the Secretary for costs incurred to administer the program, including financial and legal advice (administrative costs).

Eligible applicants may use amounts awarded under this NOFO to pay the RRIF CRP and/or administrative costs associated with a RRIF loan or loan guarantee made to finance the same PTC system installation project for which the grant under this NOFO was awarded.

To be clear, the funds made available under this NOFO may only be used to finance the installation of PTC systems required under 49 U.S.C. 20157.

Availability

The grant funds made available under this NOFO must be obligated in a grant agreement no later than September 30, 2018. Therefore, for an eligible applicant to use grant funds to pay the CRP and/or administrative costs associated with a RRIF loan or loan guarantee, the applicable loan or loan guarantee must be executed by September 30, 2018. Subsidy and administrative costs associated with a RRIF loan or loan guarantee agreement that is not executed by September 30, 2018 are not eligible for funding under this NOFO.

Section 5: Application Review

FRA will conduct a three-part application review process, as follows:

a. Screen applications for completeness and eligibility;

b. Evaluate eligible applications (completed by technical panels applying the evaluation criteria); and

c. Select projects for funding (completed by the FRA Administrator applying additional selection criteria).

5.1 Intake and Eligibility

FRA first will screen each application for eligibility (eligibility requirements are outlined in Section 3 of this notice) and completeness (application documentation and submission requirements are outlined in Section 4 of this notice). FRA-led technical panels of subject-matter experts will evaluate all eligible and complete applications using the evaluation criteria outlined in this section. The FRA Administrator then will select for funding the projects that are well-aligned with one or more of the evaluation and selection criteria.

5.2 Evaluation Criteria

FRA will give preference to applicants that can demonstrate an ability to substantially complete the project work, or otherwise provide benefits to industry, prior to the statutory deadlines the Positive Train Control Enforcement and Implementation Act of 2015 (PTCEI Act) established. The PTCEI Act extended the statutory deadline for implementation of PTC systems to at least December 31, 2018, and allows railroads to request approval from FRA for an extension beyond December 31, 2018, but no later than December 31, 2020, for implementation of certain operational, non-hardware aspects of PTC systems, upon completion of statutory prerequisites. FRA will review applications using the following four evaluation criteria:

• Accrued safety benefits;

• Expeditious PTC system deployment;

• Technical merit; and

• Project development approach.

a. Accrued Safety Benefits

FRA will consider a proposed project's accrued safety benefits, including the following factors:

i. The number of passengers for which the proposed project will improve safety by reducing the threat of train-to-train collisions, over speed derailments, incursions into established work zone limits, and the movement of a train through a misaligned switch; and

ii. The number of miles of roadway work zones protected by the proposed project.

b. Expeditious PTC System Deployment

FRA will consider a proposed project's achievement of expeditious PTC system deployment, including the following factors:

i. The degree to which the proposed project expedites the installation of the PTC system;

ii. The degree to which the proposed project expedites testing and certification of the PTC system; and

iii. The ability for the proposed project to maintain the railroad's PTC system implementation timeline or reduce/eliminate schedule risks.

c. Technical Merit

FRA will consider a proposed project's technical merit, including the following factors:

i. The degree to which the proposed project exhibits a sound scientific and engineering basis;

ii. The degree to which the proposed project is practically applied in and compatible with the railroad's operating environment and infrastructure; and

iii. The likelihood of technical and practical success.

d. Project Development Approach

FRA will consider a proposed project's project development approach, including the following factors:

i. The technical qualifications and demonstrated experience of key personnel proposed to lead and perform the technical efforts, and the qualifications of the primary and supporting organizations to fully and successfully execute the proposed project within the proposed timeframe and budget;

ii. The degree to which proposed project is supported by multiple entities (letters of support are encouraged);

iii. The affordability and degree to which the proposed project is a good value for the amount of funding requested. Good value means the goods/services received are worth the price paid. (Examples of the types of factors that may be considered include, but are not limited to, suitability, quality, skills, price, and life-cycle cost. The mix of these and other factors and the relevant importance of each will vary on a case by case basis);

iv. The reasonableness of the proposed costs; and

v. The extent of proposed cost sharing or cost participation (exclusive of the applicant's prior investment).

5.3 Selection Criteria

In addition to the evaluation criteria, the FRA Administrator will apply the following four selection criteria to further ensure that the projects selected for funding advance FRA's current PTC mission and key priorities:

• Alignment with DOT strategic goals and priorities;

• Project delivery performance;

• Region/location; and

• Innovation/resource development.

a. Alignment With DOT Strategic Goals and Priorities

i. Improving transportation safety;

ii. Maintaining transportation infrastructure in a state of good repair;

iii. Promoting economic competitiveness;

iv. Advancing environmentally sustainable transportation policies;

v. Enhancing quality of life; and

vi. Building ladders of opportunity to expand the middle class.

Proposed projects that demonstrate the ability to provide reliable, safe and affordable transportation choices to connect economically disadvantaged populations, non-drivers, senior citizens, and persons with disabilities in disconnected communities with employment, training and education will receive particular consideration during project selection.

b. Project Delivery Performance

i. The applicant's track record in successfully delivering previous DOT grants on time, on budget, and for the full intended scope;

ii. The applicant's means for achieving satisfactory continuing control over project assets in a timely manner, including public ownership of project assets or agreements with commuter railroad operators and infrastructure owners at the time of application; and

iii. The extent to which the proposed project complements previous DOT awards.

c. Region/Location

i. The extent to which the proposed project increases the economic productivity of land, capital, or labor at specific locations, particularly in economically distressed areas;

ii. Ensuring appropriate level of regional balance across the country;

iii. Ensuring consistency with national transportation and rail network objectives; and

iv. Ensuring integration with other rail services and transportation modes.

d. Innovation/Resource Development

i. Promoting innovations that demonstrate the value of new approaches to, among other things, transportation funding and finance, contracting, project delivery, congestion management, safety management, asset management, or long-term operations and maintenance.

6. Federal Award Administration

6.1 Federal Award Notice

Final project selections will be posted on DOT, FRA, and FTA's Web sites.

6.2 Award Administration

Due to funding limitations, projects that are selected for funding may receive less than the amount originally requested. In those cases, applicants must be able to demonstrate that the proposed projects are still viable and can be completed with the amount awarded.

Federal Awardee Performance and Integrity Information System (FAPIIS) Review

Before making a Federal award with a total amount of Federal share greater than the simplified acquisition threshold (see 2 CFR 200.88 Simplified Acquisition Threshold), FTA will review and consider any information about the applicant that is in the designated integrity and performance system accessible through the System for Award Management (SAM) (currently the Federal Awardee Performance and Integrity Information System (FAPIIS)) (see 41 U.S.C. 2313).

An applicant, at its option, may review information in the designated integrity and performance systems accessible through SAM and comment on any information about itself that a Federal awarding agency previously entered and is currently in the designated integrity and performance system accessible through SAM.

FTA will consider any comments by the applicant, in addition to the other information in the designated integrity and performance system, in making a judgment about the applicant's integrity, business ethics, and record of performance under Federal awards when completing the review of risk posed by applicants as described in 2 CFR 200.205.

6.3 Administrative and National Policy Requirements

a. Pre-Award Authority

Once selected, FTA will issue specific guidance to recipients regarding pre-award authority at the time of selection. FTA does not provide pre-award authority for discretionary funds until projects are selected and even then there are Federal requirements that must be met before costs are incurred. For more information about FTA's policy on pre-award authority, please see the FY 2016 Apportionment Notice published on February 16, 2016. https://www.gpo.gov/fdsys/pkg/FR-2016-02-16/pdf/2016-02821.pdf.

b. Grant Requirements

If selected, awardees will apply for a grant through FTA's Transit Award Management System (TrAMS). Recipients of PTC Funding are subject to the requirements of 49 U.S.C. Chapter 53, including FTA's Buy America requirements, Disadvantaged Business Enterprise, and Planning Requirements. All recipients must follow the Grants Management Requirements of FTA Circular 5010.1D, the labor protections of 49 U.S.C. 5333(b), and the third party procurement requirements of FTA Circular 4220.1F. All discretionary grants, regardless of award amount, will be subject to the congressional notification and release process. Technical assistance regarding these requirements is available from each FTA regional office.

c. Standard Assurances

The applicant must assure it will comply with all applicable Federal statutes, regulations, executive orders, FTA circulars, and other Federal administrative requirements in carrying out any project supported by the FTA grant. The applicant must acknowledge that it is under a continuing obligation to comply with the terms and conditions of the grant agreement issued for its project with FTA. The applicant understands that Federal laws, regulations, policies, and administrative practices might be modified from time to time and may affect the implementation of the project. The applicant must agree that the most recent Federal requirements will apply to the project, unless FTA issues a written determination otherwise. The applicant must submit the Certifications and Assurances before receiving a grant if it does not have current certifications on file.

d. Reporting

Post-award reporting requirements include submission of Federal Financial Reports and Milestone Progress Reports in TrAMS.

e. Technical Assistance and Other Program Information

This program is not subject to Executive Order 12372, “Intergovernmental Review of Federal Programs.” FRA will consider applications for funding only from eligible recipients as explained in Section 3.

7. Federal Awarding Agency Contacts

If you have a PTC technical project related question, you may contact Dr. Mark Hartong, Senior Scientific Technical Advisor (phone: (202) 493-1332; email: mark.hartong@dot.gov), or Mr. Devin Rouse, Program Manager (phone: (202) 493-6185, email: devin.rouse@dot.gov.) Grant application submission and processing questions should be addressed to Ms. Amy Houser, Office of Program Delivery, Federal Railroad Administration, 1200 New Jersey Avenue SE., Room W36-412, Washington, DC 20590; email: amy.houser@dot.gov.

For questions relating to grant requirements, please contact Eric Hu, Program Manager, Urban Programs (phone: (202) 366-0870, email eric.hu@dot.gov). FTA grantees may also contact their FTA regional office. Contact for FTA's regional offices can be found on FTA's Web site at: https://www.transit.dot.gov/about/regional-offices/regional-offices.

Information Collection: The Office of Management and Budget (OMB) approved the information collection associated with the PTC Grants Program. The approval number for this collection of information is OMB No. 2130-0587.

Issued in Washington, DC on July 21, 2016.
Carolyn Flowers,
Acting Administrator, FTA.
Sarah E. Feinberg,
Administrator, FRA.

[FR Doc. 2016-17943 Filed 7-28-16; 8:45 am]

BILLING CODE 4910-06-P